DEPARTMENT OF TRANSPORTATION

Federal Aviation Administration

14 CFR Part 71

[Docket No. FAA-2008-0203; Airspace Docket No. 08-ANE-99]

Modification of Class D Airspace; Brunswick, ME

AGENCY: Federal Aviation Administration (FAA), DOT.

ACTION: Direct final rule, request for comments; withdrawal.

SUMMARY: This action withdraws the direct final rule published in the Federal Register April 14, 2008 modifying Class D Airspace at Brunswick, ME. After publication it came to our attention that there had been a miscommunication about the operating hours of the Brunswick NAS Air Traffic Control Tower. The tower itself is still a 24-hour operation; therefore, there is no need to modify the Class D Airspace to reflect part-time status.

DATES: Effective Date: June 12, 2008.

FOR FURTHER INFORMATION CONTACT: Melinda Giddens, System Support Group, Federal Aviation Administration, P.O. Box 20636, Atlanta, Georgia 30320; Telephone (404) 305-5610, Fax 404-305-5572.

SUPPLEMENTARY INFORMATION:

History

On April 14, 2008, the Federal Register published a direct final rule with a request for comments (73 FR 19995) modifying Class D Airspace in Brunswick, ME, Federal Register Docket No. FAA-2008-0203. After publication it was discovered that the control tower hours of operation had not been changed to a part-time status, thereby rendering this docket for airspace action unnecessary. This action withdraws Federal Register Docket No. FAA-2008-0203.

Lists of Subjects in 14 CFR Part 71

Airspace, Incorporation by reference, Navigation (Air).

Withdrawal of Direct Final Rule

Accordingly, pursuant to the authority delegated to me, Docket No. FAA 2008-0203; Airspace Docket No. 08-ANE-99, as published in the Federal Register on April 14, 2008 (73 FR 19995), is hereby withdrawn.

1. The authority citation for part 71 continues to read as follows:

Authority: 49 U.S.C. 106(g); 40103, 40113, 40120; E.O. 10854, 24 FR 9565, 3 CFR, 1959-1 963 Comp., p. 389.

Issued in College Park, Georgia, on May 8, 2008.
Mark D. Ward,
Manager, Operations Support Group, Eastern Service Center, Air Traffic Organization.

[FR Doc. E8-12783 Filed 6-11-08; 8:45 am]

BILLING CODE 4910-13-M